NUCLEAR REGULATORY COMMISSION

[NRC-2011-0267]

Receipt of Request for Action

Notice is hereby given that by petition dated July 29, 2011, David Lochbaum (petitioner) has requested that the U.S. Nuclear Regulatory Commission (NRC or the Commission) take action to issue a Demand for Information (DFI) of all boiling-water reactor nuclear power reactors with Mark I or Mark II containment designs.

As the basis for this request, the petitioner states that, during an accident scenario, the spent fuel pools have the potential to impact other plant equipment. The petitioner has requested that the DFI compel the subject licensees to demonstrate that the plant systems are capable of removing the combined heat loads from the reactor building during an accident, including the heat load from the spent fuel pool. Additionally, the petitioner requested that the DFI compel the subject licensees to demonstrate that, if the spent fuel pool were to boil, the equipment that would be exposed to additional temperature, humidity, and submergence conditions would be able to perform its design function.

The request is being treated pursuant to Title 10 of the Code of Federal Regulations Section 2.206 of the Commission's regulations. The request has been referred to the Director of the Office of Nuclear Reactor Regulation (NRR). As provided by Section 2.206, appropriate action will be taken on this petition within a reasonable time. The petitioner declined an opportunity to address the NRR Petition Review Board (PRB). After meeting internally, the PRB acknowledged the petitioner's concern about the impact of spent fuel pools during an accident, noting that this concern is consistent with the NRC's mission of protecting public health and safety. Additionally, the PRB noted that the effects of the spent fuel pool during an accident are undergoing NRC review as part of the lessons-learned from the Fukushima event. The PRB intends to use the results of the Fukushima review to inform its final decision on whether to implement the requested actions.

A copy of the petition (Agencywide Documents Access and Management System Accession No. ML11213A030) is available for inspection at the Commission's Public Document Room (PDR), located at One White Flint North, Public File Area O1 F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-(800) 397-4209 or (301) 415-4737, or by email to PDR.Resource@nrc.gov.

Dated at Rockville, Maryland, this November 10, 2011.
For the Nuclear Regulatory Commission.
Eric J. Leeds,
Director, Office of Nuclear Reactor Regulation.

[FR Doc. 2011-29988 Filed 11-18-11; 8:45 am]

BILLING CODE 7590-01-P